DEPARTMENT OF THE INTERIOR

Bureau of Land Management

[CO-600-00-1010-PG-241A]

Northwest Colorado Resource Advisory Council Meeting

AGENCY: Bureau of Land Management, Interior.

ACTION: Notice of Meeting.

SUMMARY: The next meeting of the Northwest Colorado Resource Advisory Council (RAC) will be held on Friday, July 21, 2000, from 9:00 a.m. to 4 p.m. at the U.S. Forest Service Office building located at 925 Weiss Drive, Steamboat Springs, Colorado.

DATES: The meeting date is Friday, July 21, 2000.

ADDRESSES: The RAC meeting will be held at the U. S. Forest Service Office building located at 925 Weiss Drive, Steamboat Springs, Colorado.

FOR FURTHER INFORMATION CONTACT: Lynn Barclay, Public Affairs Specialist, Craig BLM Office, 455 Emerson Street, Craig, CO 81625—Phone (970) 826-5096.

SUPPLEMENTARY INFORMATION: The meeting will begin at 9 a. m. on July 21, 2000. The purpose of the meeting is to consider several resource management topics. These topics are review of Recreation Guidelines as prepared by BLM staff, update of County Wilderness Forum process, review of BLM plan to develop strategy to manage ORV's, progress report of Wildlife Committee, RAC association with the U.S. Forest Service, and BLM Management Report on wilderness review for Vermillion Cliffs. The meeting will adjourn at 4:00 p.m.

Interested members of the public may make oral statements at the meeting at 10:15 a.m. or submit written statements following the meeting. Per-person time limits for oral statements may be set to allow all interested individuals an opportunity to speak.

Summary minutes of RAC meetings are maintained in the BLM Northwest Center Office located at 2815 H Road, Grand Junction, CO., 81506, phone (970) 244-3000 and the Craig BLM Office located at 455 Emerson Street, Craig, CO., 81625, phone (970) 826-5000. They are available for public inspection and reproduction during regular business hours within thirty (30) days following the meeting.

Dated: June 12, 2000.
Richard M. Arcand,
Assistant Manager, Northwest Center Office.

[FR Doc. 00-15306 Filed 6-15-00; 8:45 am]

BILLING CODE 4310-JB-P